DEPARTMENT OF ENERGY

Federal Energy Regulatory Commission

[Docket No. RP01-601-000]

Natural Gas Pipeline Company of America; Notice of Tariff Filing and Annual Charge Adjustment

September 18, 2001.

Take notice that on September 11, 2001, Natural Gas Pipeline Company of America (Natural) tendered for filing to become part of its FERC Gas Tariff, Sixth Revised Volume No. 1, Tenth Revised Sheet No. 26, to be effective October 1, 2001.

Natural states that the purpose of this filing is to implement the Annual Charges Adjustment (ACA) surcharge necessary for Natural to recover from its customers annual charges assessed to it by the Federal Energy Regulatory Commission (Commission) pursuant to Part 382 of the Commission's Regulations. Natural states that its new ACA factor will be $0.0021 per Dth.

Natural states that copies of the filing are being mailed to its customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed on or before September 25, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23817 Filed 9-21-01; 8:45 am]

BILLING CODE 6717-01-P